DEPARTMENT OF COMMERCE

International Trade Administration

[A-560-826]

Monosodium Glutamate From the Republic of Indonesia: Final Results of Antidumping Duty Administrative Review; 2016-2017

AGENCY: Enforcement and Compliance, International Trade Administration, Department of Commerce.

SUMMARY: The Department of Commerce (Commerce) determines that PT. Cheil Jedang Indonesia (CJ Indonesia), an Indonesian producer/exporter of monosodium glutamate (MSG) and the sole respondent in this review, did not make sales of MSG at prices below normal value during the period of review (POR) November 1, 2016 through October 31, 2017.

DATES: Applicable August 1, 2019.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

On December 11, 2018, Commerce published the Preliminary Results.¹ For a detailed history of events that occurred since the Preliminary Results, see the Issues and Decision Memorandum.² Commerce exercised its discretion to toll all deadlines affected by the partial federal government closure from December 22, 2018 through the resumption of operations on January 29, 2019.³ On May 13, 2019, we extended the deadline for these final results until no later than July 19, 2019.⁴

¹ See Monosodium Glutamate from the Republic of Indonesia: Preliminary Results of Antidumping Duty Administrative Review; 2016-2017, 83 FR 63626 (December 11, 2018) (Preliminary Results).

² See Memorandum, “Issues and Decision Memorandum for the Final Results of the 2016-2017 Administrative Review of the Antidumping Duty Order on Monosodium Glutamate from the Republic of Indonesia,” dated concurrently with, and hereby adopted by, this notice (Issues and Decision Memorandum).

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁴ See Memorandum, “Monosodium Glutamate from the Republic of Indonesia: Extension of Deadline for Final Results of Antidumping Duty Administrative Review; 2016-2017,” dated May 13, 2019.

Scope of the Order

The merchandise covered by this order is MSG, whether or not blended or in solution with other products. Merchandise covered by this order is currently classified in the Harmonized Tariff Schedule of the United States (HTSUS) at subheading 2922.42.10.00. Merchandise covered by this order may also enter under HTSUS subheadings 2922.42.50.00, 2103.90.72.00, 2103.90.74.00, 2103.90.78.00, 2103.90.80.00, and 2103.90.90.91.⁵ The written description of the scope of the antidumping duty order is dispositive.

⁵ For a full description of the scope of the order, see the Issues and Decision Memorandum.

Analysis of Comments Received

All issues raised in the case and rebuttal briefs by interested parties are addressed in the Issues and Decision Memorandum. The Issues and Decision Memorandum is a public document and is on file electronically via Enforcement and Compliance's Antidumping and Countervailing Duty Centralized Electronic System (ACCESS). ACCESS is available to registered users at https://access.trade.gov, and is available to all parties in the Central Records Unit, room B8024 of the main Commerce Building. In addition, a complete version of the Issues and Decision Memorandum can be accessed directly on the internet at http://enforcement.trade.gov/frn/. The signed Issues and Decision Memorandum and its electronic version are identical in content.

A list of the issues that parties raised, and to which we responded in the Issues and Decision Memorandum, is attached as the Appendix to this notice.

Changes Since the Preliminary Results

Based on our analysis of the comments we received from interested parties, we made certain changes to the margin calculations for CJ Indonesia.⁶

⁶ See Issues and Decision Memorandum.

Final Results of Administrative Review

As a result of this administrative review, we determine the following weighted-average dumping margin exists for the period November 1, 2016 through October 31, 2017:

Producer/exporter | Weighted- average dumping margin (prcent)
PT. Cheil Jedang Indonesia | 0.00

Disclosure and Public Comment

We intend to disclose the margin calculations performed in this proceeding within five days after publication of these final results in the Federal Register, in accordance with section 751(a) of the Tariff Act of 1930, as amended (the Act), and 19 CFR 351.224(b).

Assessment Rates

Upon completion of this administrative review, Commerce shall determine and U.S. Customs and Border Protection (CBP) shall assess antidumping duties on all appropriate entries. Because the weighted-average dumping margin for CJ Indonesia has been determined to be zero within the meaning of 19 CFR 351.106(c), we will instruct CBP to liquidate the appropriate entries of subject merchandise without regard to antidumping duties.

In accordance with Commerce's practice, for entries of subject merchandise during the POR produced by CJ Indonesia for which it did not know that the merchandise was destined for the United States, we will instruct CBP to liquidate those entries at the all-others rate if there is no rate for the intermediate company(ies) involved in the transaction.⁷

⁷ For a full discussion of this practice, see Antidumping and Countervailing Duty Proceedings: Assessment of Antidumping Duties, 68 FR 23954 (May 6, 2003).

Cash Deposit Requirements

The following cash deposit requirements will be effective upon publication of the final results of this administrative review for all shipments of the subject merchandise entered, or withdrawn from warehouse, for consumptions on or after the publication date, as provided for by section 751(a)(2)(C) of the Act: (1) The cash deposit rate for merchandise produced and/or exported by CJ Indonesia will be 0.00 percent, the rate established in the final results of this administrative review; (2) for previously reviewed or investigated companies not covered under this administrative review, the cash deposit rate will continue to be the company-specific rate published for the most recent period; (3) if the exporter is not a firm covered in this or any previous review or in the original less-than-fair-value (LTFV) investigation but the manufacturer is, the cash deposit rate will be the rate established for the most recent period for the manufacturer of the merchandise; and (4) the cash deposit rate for all other manufacturers or exporters will continue to be 6.19 percent, the all-others rate established in the LTFV investigation.⁸ These deposit requirements, when imposed, shall remain in effect until further notice.

⁸ See Monosodium Glutamate from the Republic of Indonesia: Final Determination of Sales at Less Than Fair Value, 79 FR 58329 (September 29, 2014).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice also services as a reminder to parties subject to administrative protective order (APO) of their responsibility concerning the return or destruction of proprietary information disclosed under APO in accordance with 19 CFR 351.305(a)(3), which governs business proprietary information in this segment of the proceeding. Timely written notification of the return/destruction of APO materials or conversion to judicial protective order is hereby requested. Failure to comply with the regulations and terms of an APO is a sanctionable violation.

Notification to Interested Parties

We are issuing and publishing this notice in accordance with sections 751(a)(1) and 771(i)(1) of the Act, and 19 CFR 351.221(b)(5).

Dated: July 19, 2019.
Jeffrey I. Kessler,
Assistant Secretary for Enforcement and Compliance.

Appendix List of Topics Discussed in the Issues and Decision Memorandum

I. Summary

II. Background

III. Scope of the Order

IV. Changes Since the Preliminary Results

V. Discussion of the Issues

Comment 1: Whether Commerce Should Rely on Facts Available for CJ Indonesia's Inland Freight/Plant Warehouse to Customer Expenses

Comment 2: Whether Commerce Should Rely on CJ Indonesia's Reported General and Administrative (G&A) Expenses, Modified to Reflect Royalty Expense

Comment 3: Whether Commerce Should Correct Currency Conversion Errors in the Preliminary Results

VI. Recommendation

[FR Doc. 2019-15918 Filed 7-31-19; 8:45 am]

BILLING CODE 3510-DS-P